FEDERAL RETIREMENT THRIFT INVESTMENT BOARD

Sunshine Act; Notice of Meeting

DATE AND TIME: July 26, 2017, Noon.

PLACE: 1700 K St. NW., Washington, DC 20006.

AGENDA: Federal Retirement Thrift Investment Board Member Meeting.

STATUS: Closed to the public.

MATTER TO BE CONSIDERED: Information covered under 5 U.S.C. 552b(c)(6) and (c)(9)(B).

Adjourn

CONTACT PERSON FOR MORE INFORMATION: Kimberly Weaver, Director, Office of External Affairs, (202) 942-1640.

Dated: July 24, 2017.
Megan Grumbine,
General Counsel, Federal Retirement Thrift Investment Board.

[FR Doc. 2017-15793 Filed 7-24-17; 11:15 am]

BILLING CODE 6760-01-P